DEPARTMENT OF JUSTICE

Notice of Lodging of Consent Decrees Under the Lead-Based Paint Hazard Act

Notice is hereby given that on April 1, 2005, a proposed consent decree in United States v. Gorman Park Properties, L.L.L.P. et al., Civil Action No. 05-cv-00648-DSD-SRN, and on March 30, 2005 a proposed consent decree in United States v. Bashir Moghul., Civil Action No. 05-cv-00649-JNE-JGL, were lodged with the United States District Court for the District of Minnesota.

In United States v. Grendahl, the United States, on behalf of the Environmental Protection Agency (“EPA”) and the Department of Housing and Urban Development (“HUD”), alleges that Grendahl Park II LLC, Grendahl Park III LLC, and Gorman Park Properties (“Grendahl”), three family-owned real estate businesses, violated the Act by failing to make various disclosures required by Section 1018 of the Act, 42 U.S.C. 4852d, and its implementing regulations. The Grendahl defendants own and manage 12 residential properties in Minneapolis with a total of 208 units. In the proposed consent decree, the defendants agree to abate all lead-based paint hazards in each of their units. Grendahl also agrees to pay to the United States an administrative penalty of $7,500 and to perform a $50,000 Child Health Improvement Project (“CHIP”) to provide a mobile lead-screening van for use in the Minneapolis area.

In United States v. Moghul, the United States alleges that Bashir Moghul (“Moghul”), who owns and manages 28 houses and duplexes in Minnesota, Wisconsin, and Indiana, similarly violated the Act by failing to make the disclosures required by the Act and the regulations. In the proposed consent decree with Moghul, the defendant agrees to abate the lead-based paint hazards and replace all the windows in each of his houses in Minnesota, Wisconsin, and Indiana and pay an administrative penalty of $5,000 to the United States.

The Department of Justice will receive for a period of thirty (30) days from the date of this publication comments relating to the consent decrees. Comments should be addressed to the Assistant Attorney General of the Environment and Natural Resources Division, Department of Justice, P.O. Box 7611, Washington, DC 20044-7611, and should refer to United States v. Gorman Park Properties, L.L.L.P. et al., D.J. #90-5-1-1-08518, or United States v. Bashir Moghul, D.J. #90-5-1-1-08520.

The proposed consent decrees may be examined at the Department of Housing and Urban Development, Office of General Counsel, 451 7th St. NW., Room 9262, Washington, DC 20410 (Attn.; at the office of the United States Attorney for the District of Minnesota, 600 U.S. Courthouse, 300 South Fourth Street, Minneapolis Minnesota, 55415 (Attn. Assistant United States Attorney Gregory G. Brooker); and at U.S. EPA Region 5, 77 W. Jackson Blvd., Chicago, IL 60604 (Attn. Assistant Regional Counsel Mary McAuliffe). During the public comment period, the consent decrees may also be examined on the following Department of Justice Web site, http://www.usdoj.gov/enrd/open.html. Copies of the consent decrees may also be obtained by mail from the Consent Decree Library, P.O. Box 7611, U.S. Department of Justice, Washington, DC 20044-7611 or by faxing or e-mailing a request to Tonia Fleetwood ( tonia.fleetwood@usdoj.gov), fax no. (202) 514-0097, phone confirmation number (202) 514-1547. In requesting a copy please refer to the referenced case and enclose a check in the amount of $10 (25 cents per page reproduction costs), payable to the U.S. Treasury for the consent decree in United States v. Gorman Park Properties, L.L.L.P. et al., D.J. #90-5-1-1-08518 and $10.50 (25 cents per page reproduction costs), payable to the U.S. Treasury, for the consent decree in United States v. Bashir Moghul, D.J. #90-5-1-1-08520.

Karen Dworkin,
Assistant Chief, Environmental Enforcement Section, Environment and Natural Resources Division.

[FR Doc. 05-9944 Filed 5-18-05; 8:45 am]

BILLING CODE 4410-15-M